NATIONAL CREDIT UNION ADMINISTRATION

Sunshine Act Meeting; Notice of a Matter To Be Added to the Agenda for Consideration at an Agency Meeting

FEDERAL REGISTER CITATION OF PREVIOUS ANNOUNCEMENT: June 17, 2013 (78 FR 36277).

TIME AND DATE: 10:00 a.m., Thursday, June 20, 2013.

PLACE: Board Room, 7th Floor, Room 7047, 1775 Duke Street, Alexandria, VA 22314-3428.

STATUS: Open.

MATTERS TO BE ADDED: 2. NCUA's Rules and Regulations, Loan Participations.

FOR FURTHER INFORMATION CONTACT: Mary Rupp, Secretary of the Board, Telephone: 703-518-6304

Mary Rupp,
Board Secretary.

[FR Doc. 2013-14985 Filed 6-19-13; 4:15 pm]

BILLING CODE 7535-01-P